DEPARTMENT OF AGRICULTURE

Agricultural Marketing Service

7 CFR Part 1205

[Doc. #AMS-CN-09-0015; CN-09-002]

Cotton Board Rules and Regulations: Adjusting Supplemental Assessment on Imports (2009 Amendments)

AGENCY: Agricultural Marketing Service, USDA.

ACTION: Final rule.

SUMMARY: The Agricultural Marketing Service (AMS) is amending the Cotton Board Rules and Regulations by increasing the value assigned to imported cotton for calculating supplemental assessments collected for use by the Cotton Research and Promotion Program. An amendment is required to adjust the assessments collected on imported cotton and the cotton content of imported products to be the same as those paid on domestically produced cotton. In addition, AMS is adding and changing Harmonized Tariff Schedule (HTS) statistical reporting numbers that were amended since the last assessment adjustment.

DATES: Effective Date: August 7, 2009.

FOR FURTHER INFORMATION CONTACT: Shethir M. Riva, Chief, Research and Promotion Staff, Cotton and Tobacco Programs, AMS, USDA, Stop 0224, 1400 Independence Ave., SW., Room 2639-S, Washington, DC 20250-0224, telephone (202) 720-6603, facsimile (202) 690-1718, or e-mail at Shethir.Riva@usda.gov.

SUPPLEMENTARY INFORMATION:

Executive Order 12866

The Office of Management and Budget has waived the review process required by Executive Order 12866 for this action.

Executive Order 12988

This rule has been reviewed under Executive Order 12988, Civil Justice Reform. It is not intended to have retroactive effect. This rule would not preempt any State or local laws, regulations, or policies, unless they present an irreconcilable conflict with this rule.

The Cotton Research and Promotion Act (7 U.S.C. 2101-2118) (“Act”) provides that administrative proceedings must be exhausted before parties may file suit in court. Under Section 12 of the Act, any person subject to an order may file with the Secretary a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Background

The Cotton Research and Promotion Act Amendments of 1990 enacted by Congress under Subtitle G of Title XIX of the Food, Agriculture, Conservation, and Trade Act of 1990 (Pub. L. 101-624) on November 28, 1990, contained two provisions that authorized changes in the funding procedures for the Cotton Research and Promotion Program.

These provisions are: (1) The assessment of imported cotton and cotton products; and (2) termination of the right of cotton producers to demand a refund of assessments.

This rule increases the value assigned to imported cotton in the Cotton Board Rules and Regulations (7 CFR 1205.510(b)(2)). The total value is determined by a two-part assessment. The first part of the assessment is levied on the weight of cotton produced or imported at a rate of $1 per bale of cotton, which is equivalent to 500 pounds, or $1 per 226.8 kilograms of cotton. The second value is used to calculate the supplemental assessments on imported cotton and the cotton content of imported products. Supplemental assessments are levied at a rate of five-tenths of one percent of the value of domestically produced cotton, imported cotton, and the cotton content of imported products. The supplement assessment is combined with the per bale equivalent to determine the total value and assessment of the imported cotton or cotton-containing products.

The Cotton Research and Promotion Rules and Regulations provide for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the U.S. Department of Agriculture (USDA). Use of the weighted average price figure in the calculation of supplemental assessments on imported cotton and the cotton content of imported products will yield an assessment that is the same as assessments paid on domestically produced cotton.

The current value of imported cotton as published in the Federal Register (73 FR 69521) for the purpose of calculating assessments on imported cotton is $0.009874 per kilogram, which is equivalent to 0.9874 cents per kilogram. Using the Average Weighted Price received by U.S. farmers for Upland cotton for the calendar year 2008, the new value of imported cotton is $0.01088 per kilogram, which is equivalent to $1.0880 cents per kilogram, or $0.001006 per kilogram more than the previous value.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × .453597).

$1 per bale assessment equals $0.002000 per pound (1/500) or $0.004409 per kg. (1/226.8).

Supplemental Assessment of 5/10 of One Percent of the Value of the Cotton Converted to Kilograms

The 2008 calendar year weighted average price received by producers for Upland cotton is $0.587 per pound or $1.294 per kg. (0.587 × 2.2046).

Five tenths of one percent of the average price in kg. equals $0.006471 per kg. (1.294 × .005).

Total Assessment

The total assessment per kilogram of raw cotton is obtained by adding the $1 per bale equivalent assessment of $0.004409 per kg. and the supplemental assessment $0.006471 per kg. which equals $0.01088 per kg. and is equivalent to $1.0880 cents per kilogram.

The current assessment on imported cotton is $0.009874 per kilogram of imported cotton. The new assessment is $0.01088, which is equivalent to $1.0880 cents per kilogram, an increase of $0.001006 per kilogram. This increase reflects the increase in the Average Weighted Price of Upland Cotton Received by U.S. Farmers during the period January through December 2008.

Since the value of cotton is the basis of the supplemental assessment calculation and the figures shown in the right hand column of the Import Assessment Table in section 1205.510(b)(3) are a result of such a calculation, the figures in this table have been revised. These figures indicate the total assessment per kilogram due for each HTS statistical reporting number subject to assessment.

AMS also compared the current import assessment table with the U.S. International Trade Commission's (ITC) 2009 HTS and identified HTS statistical reporting numbers that have been changed or amended by ITC. The HTS statistical reporting number that currently appears in section 1205.510(b)(3) is listed below on the left side of the table with the new HTS statistical reporting number on the right side of the table. The new numbers corresponds with the same ITC category, but with the amended number as it appears in ITC's HTS.

Current HTS | New HTS
5205420020 | 5205420021
5205440020 | 5205440021

In addition, AMS removed HTS statistical reporting numbers from section 1205.510(b)(3) that were no longer in the ITC official HTS on November 19, 2008 (73 FR 69521) and has worked with ITC to identify the new corresponding HTS statistical reporting numbers that ITC is using in the 2009 HTS. In many instances, the number is a replacement of a previous number and has no impact on the physical properties or cotton content of the product involved. In other instances, the HTS statistical reporting numbers were expanded and are now represented by two HTS statistical reporting numbers. Below on the left are the numbers removed on November 19, 2008 (73 FR 69521), and on the right are the new numbers that ITC currently is using and whose categories correspond to the previously removed HTS statistical reporting numbers from 1205.510(b)(3).

Removed HTS No. | New HTS No.
5208530000 | 5208591000
5210120000 | 5210191000
5211210025 | 5211202125
5211210035 | 5211202135
5211210050 | 5211202150
5211290090 | 5211202990
5604900000 | 5604909000
5702991010 | 5702990500
5702991090 | 5702991500
6109100005 | 6109100004
6109100009 | 6109100004
| 6109100011
6110202065 | 6110202067
| 6110202069
6110202075 | 6110202077
| 6110202079
6111206040 | 6111206050
| 6111206070
6111305040 | 6111305050
| 6111305070
6115198010 | 6115101510
| 6115298010
6115929000 | 6115959000
| 6115103000
6115936020 | 6115966020
6203424005 | 6203424006
6203424010 | 6203424011
6203424015 | 6203424016
6203424020 | 6203424021
6203424025 | 6203424026
6203424030 | 6203424031
6203424035 | 6203424036
6203424040 | 6203424041
6203424045 | 6203424046
6203424050 | 6203424051
6203424055 | 6203424056
6203424060 | 6203424061
6204624005 | 6204624006
6204624010 | 6204624011
6204624020 | 6204624021
6204624025 | 6204624026
6204624030 | 6204624031
6204624035 | 6204624036
6204624040 | 6204624041
6204624045 | 6204624046
6204624050 | 6204624051
6204624055 | 6204624056
6204624060 | 6204624061
6204624065 | 6204624066
6205202015 | 6205202016
6205202020 | 6205202021
6205202025 | 6205202026
6205202030 | 6205202031
6205202035 | 6205202036
6205202046 | 6205202047
6205202050 | 6205202051
6205202060 | 6205202061
6205202065 | 6205202066
6205202070 | 6205202071
6205202075 | 6205202076
6206303010 | 6206303011
6206303020 | 6206303021
6206303030 | 6206303031
6206303040 | 6206303041
6206303050 | 6206303051
6206303060 | 6206303061
6303110000 | 6303191100

A proposed rule was published on April 10, 2009, with a comment period of April 10, 2009, through May 11, 2009 (74 FR 16331). AMS received one comment from a trade association representing American manufacturers, brands, distributors, retailers, and importers of textile and apparel products, and related service providers.

The comment stated that the fee increase is inappropriately timed and current economic conditions argue against increasing the cotton fee. AMS disagrees. Section 1205.335(b)(2) of the Order provides that the rate of the supplemental assessment on imported cotton shall be the same as that paid on cotton produced in the United States. Further, the regulations at section 1205.510(b)(2) issued under the Order provide for assigning the calendar year weighted average price received by U.S. farmers for Upland cotton to represent the value of imported cotton.

The source for the average price statistic is Agricultural Prices, a publication of the National Agricultural Statistic Service (NASS) of the Department. Use of the weighted average price figure in the calculation of supplemental assessments on imported cotton and cotton content of imported products will yield an assessment that is the same as assessments paid on domestically produced cotton. The NASS numbers for Upland cotton for 2008 were used in this rulemaking, while the NASS numbers for 2007 were used in the final rule published in 2008 (73 FR 69521). One favorable comment was received from a cotton producer association in the 2008 rulemaking.

The comment received in this rulemaking also stated that AMS is not obligated to make an adjustment now and cited past years in which no adjustments were made. The years 2004 through 2007 were noted. However, AMS issued a proposed rule for the 2004 amendments to the supplemental assessment in January 2005 (70 FR 2034). The proposal not only included the 2004 adjustment to the supplemental assessment in accordance with the regulations but also proposed that the total rate of assessment per kilogram for imported cotton be calculated by adding together the $1 per bale equivalent assessment and the supplemental assessment, and adjusting the sum to account for the estimated amount of U.S. cotton contained in imported textile products. The proposal was to address changes in the composition of U.S. cotton use and the anticipated ending of U.S. textile quotas. The proposal was made after an analysis of global cotton data and development of a comprehensive calculation to determine the percentage of U.S. cotton contained in total assessable cotton imports.

The 2005 proposal generated one comment from the same trade association that commented in this action. In its 2005 comment, the commenter advised AMS to reconsider the then proposed formulation and do further work that would more accurately identify the amount of U.S. cotton contained in imported cotton products. As published in the November 20, 2006 Federal Register, AMS withdrew the proposed rule (71 FR 67072). That document noted that AMS was withdrawing the 2005 proposed rule to continue to evaluate the importer assessment issue and garner additional stakeholders' input and economic data. Adjustments to the supplemental assessment then resumed with the 2008 amendments based on NASS data for calendar year 2007.

Finally, the commenter asserted that the proposed rule in this action would not have been put forward but for the change in the number of producer seats on the Cotton Board mandated by section 14202 of the Food, Conservation, and Energy Act of 2008 (Pub. L. 110-246), more commonly known as the 2008 Farm Bill. AMS disagrees. Section 14202 of the 2008 Farm Bill amends the Cotton Research and Promotion Act by designating the States of Kansas, Virginia and Florida as cotton-producing States beginning with the 2008 crop. This amendment to the Act is the result of an act of Congress and changes the number of cotton-producing States only.

Regulatory Flexibility Act and Paperwork Reduction Act

In accordance with the Regulatory Flexibility Act (RFA) [5 U.S.C. 601-612], AMS examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,000,000. An estimated 13,000 importers are subject to the rules and regulations issued pursuant to the Cotton Research and Promotion Order. Most are considered small entities as defined by the Small Business Administration.

This final rule would only affect importers of cotton and cotton-containing products and would raise the assessments paid by the importers under the Cotton Research and Promotion Order. The current assessment on imported cotton is $0.009874 per kilogram, which is equivalent to $0.9874 cents per kilogram, of imported cotton. The new assessment is $0.01088, which is equivalent to $1.0880 cents per kilogram and was calculated based on the 12-month average of monthly weighted average prices received by U.S. cotton farmers. Section 1205.510, “Levy of assessments”, provides “the rate of the supplemental assessment on imported cotton will be the same as that levied on cotton produced within the United States.” In addition, section 1205.510 provides that the 12-month average of monthly weighted average prices received by U.S. farmers will be used as the value of imported cotton for the purpose of levying the supplemental assessment on imported cotton.

Under the Cotton Research and Promotion Program, assessments are used by the Cotton Board to finance research and promotion programs designed to increase consumer demand for Upland cotton in the United States and international markets. In 2008, producer assessments totaled $29.2 million and importer assessments totaled $25.9 million. According to the Cotton Board, should the volume of cotton products imported into the U.S. remain at the same level in 2009, one could expect the increased assessment to generate approximately $10.8 million.

Importers with line-items appearing on U.S. Customs and Border Protection documentation with value of the cotton contained therein results of an assessment of two dollars ($2.00) or less will not be subject to assessments. In addition, imported cotton and products may be exempt from assessment if the cotton content of products is U.S. produced, cotton other than Upland, or imported products that are eligible to be labeled as 100 percent organic under the National Organic Program (7 CFR part 205) and who is not a split operation.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093. This rule does not result in a change to the information collection and recordkeeping requirements previously approved.

List of Subjects in 7 CFR Part 1205

Advertising, Agricultural research, Cotton, Marketing agreements, Reporting and recordkeeping requirements.

For the reasons set forth in the preamble 7 CFR Part 1205 is amended as follows:

PART 1205—COTTON RESEARCH AND PROMOTION

1. The authority citation for Part 1205 continues to read as follows:

Authority: 7 U.S.C. 2101-2118 and 7 U.S.C. 7401.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.0880 cents per kilogram.

(3) * * *

(ii) * * *

Import Assessment Table
[Raw cotton fiber]
HTS No. | Conv. fact. | Cents/pkg.
5201000500 | 0 | 1.0880
5201001200 | 0 | 1.0880
5201001400 | 0 | 1.0880
5201001800 | 0 | 1.0880
5201002200 | 0 | 1.0880
5201002400 | 0 | 1.0880
5201002800 | 0 | 1.0880
5201003400 | 0 | 1.0880
5201003800 | 0 | 1.0880
5204110000 | 1.1111 | 1.2089
5204200000 | 1.1111 | 1.2089
5205111000 | 1.1111 | 1.2089
5205112000 | 1.1111 | 1.2089
5205121000 | 1.1111 | 1.2089
5205122000 | 1.1111 | 1.2089
5205131000 | 1.1111 | 1.2089
5205132000 | 1.1111 | 1.2089
5205141000 | 1.1111 | 1.2089
5205210020 | 1.1111 | 1.2089
5205210090 | 1.1111 | 1.2089
5205220020 | 1.1111 | 1.2089
5205220090 | 1.1111 | 1.2089
5205230020 | 1.1111 | 1.2089
5205230090 | 1.1111 | 1.2089
5205240020 | 1.1111 | 1.2089
5205240090 | 1.1111 | 1.2089
5205310000 | 1.1111 | 1.2089
5205320000 | 1.1111 | 1.2089
5205330000 | 1.1111 | 1.2089
5205340000 | 1.1111 | 1.2089
5205410020 | 1.1111 | 1.2089
5205410090 | 1.1111 | 1.2089
5205420021 | 1.1111 | 1.2089
5205420090 | 1.1111 | 1.2089
5205440021 | 1.1111 | 1.2089
5205440090 | 1.1111 | 1.2089
5206120000 | 0.5556 | 0.6045
5206130000 | 0.5556 | 0.6045
5206140000 | 0.5556 | 0.6045
5206220000 | 0.5556 | 0.6045
5206230000 | 0.5556 | 0.6045
5206240000 | 0.5556 | 0.6045
5206310000 | 0.5556 | 0.6045
5207100000 | 1.1111 | 1.2089
5207900000 | 0.5556 | 0.6045
5208112020 | 1.1455 | 1.2463
5208112040 | 1.1455 | 1.2463
5208112090 | 1.1455 | 1.2463
5208114020 | 1.1455 | 1.2463
5208114060 | 1.1455 | 1.2463
5208114090 | 1.1455 | 1.2463
5208118090 | 1.1455 | 1.2463
5208124020 | 1.1455 | 1.2463
5208124040 | 1.1455 | 1.2463
5208124090 | 1.1455 | 1.2463
5208126020 | 1.1455 | 1.2463
5208126040 | 1.1455 | 1.2463
5208126060 | 1.1455 | 1.2463
5208126090 | 1.1455 | 1.2463
5208128020 | 1.1455 | 1.2463
5208128090 | 1.1455 | 1.2463
5208130000 | 1.1455 | 1.2463
5208192020 | 1.1455 | 1.2463
5208192090 | 1.1455 | 1.2463
5208194020 | 1.1455 | 1.2463
5208194090 | 1.1455 | 1.2463
5208196020 | 1.1455 | 1.2463
5208196090 | 1.1455 | 1.2463
5208224040 | 1.1455 | 1.2463
5208224090 | 1.1455 | 1.2463
5208226020 | 1.1455 | 1.2463
5208226060 | 1.1455 | 1.2463
5208228020 | 1.1455 | 1.2463
5208230000 | 1.1455 | 1.2463
5208292020 | 1.1455 | 1.2463
5208292090 | 1.1455 | 1.2463
5208294090 | 1.1455 | 1.2463
5208296090 | 1.1455 | 1.2463
5208298020 | 1.1455 | 1.2463
5208312000 | 1.1455 | 1.2463
5208321000 | 1.1455 | 1.2463
5208323020 | 1.1455 | 1.2463
5208323040 | 1.1455 | 1.2463
5208323090 | 1.1455 | 1.2463
5208324020 | 1.1455 | 1.2463
5208324040 | 1.1455 | 1.2463
5208325020 | 1.1455 | 1.2463
5208330000 | 1.1455 | 1.2463
5208392020 | 1.1455 | 1.2463
5208392090 | 1.1455 | 1.2463
5208394090 | 1.1455 | 1.2463
5208396090 | 1.1455 | 1.2463
5208398020 | 1.1455 | 1.2463
5208412000 | 1.1455 | 1.2463
5208416000 | 1.1455 | 1.2463
5208418000 | 1.1455 | 1.2463
5208421000 | 1.1455 | 1.2463
5208423000 | 1.1455 | 1.2463
5208424000 | 1.1455 | 1.2463
5208425000 | 1.1455 | 1.2463
5208430000 | 1.1455 | 1.2463
5208492000 | 1.1455 | 1.2463
5208494020 | 1.1455 | 1.2463
5208494090 | 1.1455 | 1.2463
5208496010 | 1.1455 | 1.2463
5208496090 | 1.1455 | 1.2463
5208498090 | 1.1455 | 1.2463
5208512000 | 1.1455 | 1.2463
5208516060 | 1.1455 | 1.2463
5208518090 | 1.1455 | 1.2463
5208523020 | 1.1455 | 1.2463
5208523045 | 1.1455 | 1.2463
5208523090 | 1.1455 | 1.2463
5208524020 | 1.1455 | 1.2463
5208524045 | 1.1455 | 1.2463
5208524065 | 1.1455 | 1.2463
5208525020 | 1.1455 | 1.2463
5208591000 | 1.1455 | 1.2463
5208592025 | 1.1455 | 1.2463
5208592095 | 1.1455 | 1.2463
5208594090 | 1.1455 | 1.2463
5208596090 | 1.1455 | 1.2463
5209110020 | 1.1455 | 1.2463
5209110035 | 1.1455 | 1.2463
5209110090 | 1.1455 | 1.2463
5209120020 | 1.1455 | 1.2463
5209120040 | 1.1455 | 1.2463
5209190020 | 1.1455 | 1.2463
5209190040 | 1.1455 | 1.2463
5209190060 | 1.1455 | 1.2463
5209190090 | 1.1455 | 1.2463
5209210090 | 1.1455 | 1.2463
5209220020 | 1.1455 | 1.2463
5209220040 | 1.1455 | 1.2463
5209290040 | 1.1455 | 1.2463
5209290090 | 1.1455 | 1.2463
5209313000 | 1.1455 | 1.2463
5209316020 | 1.1455 | 1.2463
5209316035 | 1.1455 | 1.2463
5209316050 | 1.1455 | 1.2463
5209316090 | 1.1455 | 1.2463
5209320020 | 1.1455 | 1.2463
5209320040 | 1.1455 | 1.2463
5209390020 | 1.1455 | 1.2463
5209390040 | 1.1455 | 1.2463
5209390060 | 1.1455 | 1.2463
5209390080 | 1.1455 | 1.2463
5209390090 | 1.1455 | 1.2463
5209413000 | 1.1455 | 1.2463
5209416020 | 1.1455 | 1.2463
5209416040 | 1.1455 | 1.2463
5209420020 | 1.0309 | 1.1216
5209420040 | 1.0309 | 1.1216
5209430030 | 1.1455 | 1.2463
5209430050 | 1.1455 | 1.2463
5209490020 | 1.1455 | 1.2463
5209490090 | 1.1455 | 1.2463
5209516035 | 1.1455 | 1.2463
5209516050 | 1.1455 | 1.2463
5209520020 | 1.1455 | 1.2463
5209590025 | 1.1455 | 1.2463
5209590040 | 1.1455 | 1.2463
5209590090 | 1.1455 | 1.2463
5210114020 | 0.6873 | 0.7478
5210114040 | 0.6873 | 0.7478
5210116020 | 0.6873 | 0.7478
5210116040 | 0.6873 | 0.7478
5210116060 | 0.6873 | 0.7478
5210118020 | 0.6873 | 0.7478
5210191000 | 0.6873 | 0.7478
5210192090 | 0.6873 | 0.7478
5210214040 | 0.6873 | 0.7478
5210216020 | 0.6873 | 0.7478
5210216060 | 0.6873 | 0.7478
5210218020 | 0.6873 | 0.7478
5210314020 | 0.6873 | 0.7478
5210314040 | 0.6873 | 0.7478
5210316020 | 0.6873 | 0.7478
5210318020 | 0.6873 | 0.7478
5210414000 | 0.6873 | 0.7478
5210416000 | 0.6873 | 0.7478
5210418000 | 0.6873 | 0.7478
5210498090 | 0.6873 | 0.7478
5210514040 | 0.6873 | 0.7478
5210516020 | 0.6873 | 0.7478
5210516040 | 0.6873 | 0.7478
5210516060 | 0.6873 | 0.7478
5211110090 | 0.6873 | 0.7478
5211120020 | 0.6873 | 0.7478
5211190020 | 0.6873 | 0.7478
5211190060 | 0.6873 | 0.7478
5211202125 | 0.6873 | 0.7478
5211202135 | 0.4165 | 0.4532
5211202150 | 0.6873 | 0.7478
5211202990 | 0.6873 | 0.7478
5211320020 | 0.6873 | 0.7478
5211390040 | 0.6873 | 0.7478
5211390060 | 0.6873 | 0.7478
5211490020 | 0.6873 | 0.7478
5211490090 | 0.6873 | 0.7478
5211590025 | 0.6873 | 0.7478
5212146090 | 0.9164 | 0.9970
5212156020 | 0.9164 | 0.9970
5212216090 | 0.9164 | 0.9970
5509530030 | 0.5556 | 0.6045
5509530060 | 0.5556 | 0.6045
5513110020 | 0.4009 | 0.4362
5513110040 | 0.4009 | 0.4362
5513110060 | 0.4009 | 0.4362
5513110090 | 0.4009 | 0.4362
5513120000 | 0.4009 | 0.4362
5513130020 | 0.4009 | 0.4362
5513210020 | 0.4009 | 0.4362
5513310000 | 0.4009 | 0.4362
5514120020 | 0.4009 | 0.4362
5516420060 | 0.4009 | 0.4362
5516910060 | 0.4009 | 0.4362
5516930090 | 0.4009 | 0.4362
5601210010 | 1.1455 | 1.2463
5601210090 | 1.1455 | 1.2463
5601300000 | 1.1455 | 1.2463
5602109090 | 0.5727 | 0.6231
5602290000 | 1.1455 | 1.2463
5602906000 | 0.526 | 0.5723
5604909000 | 0.5556 | 0.6045
5607909000 | 0.8889 | 0.9671
5608901000 | 1.1111 | 1.2089
5608902300 | 1.1111 | 1.2089
5609001000 | 1.1111 | 1.2089
5609004000 | 0.5556 | 0.6045
5701104000 | 0.0556 | 0.0605
5701109000 | 0.1111 | 0.1209
5701901010 | 1.0444 | 1.1363
5702109020 | 1.1 | 1.1968
5702312000 | 0.0778 | 0.0846
5702411000 | 0.0722 | 0.0786
5702412000 | 0.0778 | 0.0846
5702421000 | 0.0778 | 0.0846
5702913000 | 0.0889 | 0.0967
5702990500 | 1.1111 | 1.2089
5702991500 | 1.1111 | 1.2089
5703900000 | 0.4489 | 0.4884
5801210000 | 1.1455 | 1.2463
5801230000 | 1.1455 | 1.2463
5801250010 | 1.1455 | 1.2463
5801250020 | 1.1455 | 1.2463
5801260020 | 1.1455 | 1.2463
5802190000 | 1.1455 | 1.2463
5802300030 | 0.5727 | 0.6231
5804291000 | 1.1455 | 1.2463
5806200010 | 0.3534 | 0.3845
5806200090 | 0.3534 | 0.3845
5806310000 | 1.1455 | 1.2463
5806400000 | 0.4296 | 0.4674
5808107000 | 0.5727 | 0.6231
5808900010 | 0.5727 | 0.6231
5811002000 | 1.1455 | 1.2463
6001106000 | 1.1455 | 1.2463
6001210000 | 0.8591 | 0.9347
6001220000 | 0.2864 | 0.3116
6001910010 | 0.8591 | 0.9347
6001910020 | 0.8591 | 0.9347
6001920020 | 0.2864 | 0.3116
6001920030 | 0.2864 | 0.3116
6001920040 | 0.2864 | 0.3116
6003203000 | 0.8681 | 0.9445
6003306000 | 0.2894 | 0.3149
6003406000 | 0.2894 | 0.3149
6005210000 | 0.8681 | 0.9445
6005220000 | 0.8681 | 0.9445
6005230000 | 0.8681 | 0.9445
6005240000 | 0.8681 | 0.9445
6005310010 | 0.2894 | 0.3149
6005310080 | 0.2894 | 0.3149
6005320010 | 0.2894 | 0.3149
6005320080 | 0.2894 | 0.3149
6005330010 | 0.2894 | 0.3149
6005330080 | 0.2894 | 0.3149
6005340010 | 0.2894 | 0.3149
6005340080 | 0.2894 | 0.3149
6005410010 | 0.2894 | 0.3149
6005410080 | 0.2894 | 0.3149
6005420010 | 0.2894 | 0.3149
6005420080 | 0.2894 | 0.3149
6005430010 | 0.2894 | 0.3149
6005430080 | 0.2894 | 0.3149
6005440010 | 0.2894 | 0.3149
6005440080 | 0.2894 | 0.3149
6006211000 | 1.1574 | 1.2593
6006221000 | 1.1574 | 1.2593
6006231000 | 1.1574 | 1.2593
6006241000 | 1.1574 | 1.2593
6006310040 | 0.1157 | 0.1259
6006310080 | 0.1157 | 0.1259
6006320040 | 0.1157 | 0.1259
6006320080 | 0.1157 | 0.1259
6006330040 | 0.1157 | 0.1259
6006330080 | 0.1157 | 0.1259
6006340040 | 0.1157 | 0.1259
6006340080 | 0.1157 | 0.1259
6006410085 | 0.1157 | 0.1259
6006420085 | 0.1157 | 0.1259
6006430085 | 0.1157 | 0.1259
6006440085 | 0.1157 | 0.1259
6101200010 | 1.0094 | 1.0982
6101200020 | 1.0094 | 1.0982
6102200010 | 1.0094 | 1.0982
6102200020 | 1.0094 | 1.0982
6103421020 | 0.8806 | 0.9581
6103421040 | 0.8806 | 0.9581
6103421050 | 0.8806 | 0.9581
6103421070 | 0.8806 | 0.9581
6103431520 | 0.2516 | 0.2737
6103431540 | 0.2516 | 0.2737
6103431550 | 0.2516 | 0.2737
6103431570 | 0.2516 | 0.2737
6104220040 | 0.9002 | 0.9794
6104220060 | 0.9002 | 0.9794
6104320000 | 0.9207 | 1.0017
6104420010 | 0.9002 | 0.9794
6104420020 | 0.9002 | 0.9794
6104520010 | 0.9312 | 1.0131
6104520020 | 0.9312 | 1.0131
6104622006 | 0.8806 | 0.9581
6104622011 | 0.8806 | 0.9581
6104622016 | 0.8806 | 0.9581
6104622021 | 0.8806 | 0.9581
6104622026 | 0.8806 | 0.9581
6104622028 | 0.8806 | 0.9581
6104622030 | 0.8806 | 0.9581
6104622060 | 0.8806 | 0.9581
6104632006 | 0.3774 | 0.4106
6104632011 | 0.3774 | 0.4106
6104632026 | 0.3774 | 0.4106
6104632028 | 0.3774 | 0.4106
6104632030 | 0.3774 | 0.4106
6104632060 | 0.3774 | 0.4106
6104692030 | 0.3858 | 0.4198
6105100010 | 0.985 | 1.0717
6105100020 | 0.985 | 1.0717
6105100030 | 0.985 | 1.0717
6105202010 | 0.3078 | 0.3349
6105202030 | 0.3078 | 0.3349
6106100010 | 0.985 | 1.0717
6106100020 | 0.985 | 1.0717
6106100030 | 0.985 | 1.0717
6106202010 | 0.3078 | 0.3349
6106202030 | 0.3078 | 0.3349
6107110010 | 1.1322 | 1.2318
6107110020 | 1.1322 | 1.2318
6107120010 | 0.5032 | 0.5475
6107210010 | 0.8806 | 0.9581
6107220015 | 0.3774 | 0.4106
6107220025 | 0.3774 | 0.4106
6107910040 | 1.2581 | 1.3688
6108210010 | 1.2445 | 1.3540
6108210020 | 1.2445 | 1.3540
6108310010 | 1.1201 | 1.2187
6108310020 | 1.1201 | 1.2187
6108320010 | 0.2489 | 0.2708
6108320015 | 0.2489 | 0.2708
6108320025 | 0.2489 | 0.2708
6108910005 | 1.2445 | 1.3540
6108910015 | 1.2445 | 1.3540
6108910025 | 1.2445 | 1.3540
6108910030 | 1.2445 | 1.3540
6108920030 | 0.2489 | 0.2708
6109100004 | 0.9956 | 1.0832
6109100007 | 0.9956 | 1.0832
6109100011 | 0.9956 | 1.0832
6109100012 | 0.9956 | 1.0832
6109100014 | 0.9956 | 1.0832
6109100018 | 0.9956 | 1.0832
6109100023 | 0.9956 | 1.0832
6109100027 | 0.9956 | 1.0832
6109100037 | 0.9956 | 1.0832
6109100040 | 0.9956 | 1.0832
6109100045 | 0.9956 | 1.0832
6109100060 | 0.9956 | 1.0832
6109100065 | 0.9956 | 1.0832
6109100070 | 0.9956 | 1.0832
6109901007 | 0.3111 | 0.3385
6109901009 | 0.3111 | 0.3385
6109901049 | 0.3111 | 0.3385
6109901050 | 0.3111 | 0.3385
6109901060 | 0.3111 | 0.3385
6109901065 | 0.3111 | 0.3385
6109901090 | 0.3111 | 0.3385
6110202005 | 1.1837 | 1.2879
6110202010 | 1.1837 | 1.2879
6110202015 | 1.1837 | 1.2879
6110202020 | 1.1837 | 1.2879
6110202025 | 1.1837 | 1.2879
6110202030 | 1.1837 | 1.2879
6110202035 | 1.1837 | 1.2879
6110202040 | 1.1574 | 1.2593
6110202045 | 1.1574 | 1.2593
6110202067 | 1.1574 | 1.2593
6110202069 | 1.1574 | 1.2593
6110202077 | 1.1574 | 1.2593
6110202079 | 1.1574 | 1.2593
6110909022 | 0.263 | 0.2861
6110909024 | 0.263 | 0.2861
6110909030 | 0.3946 | 0.4293
6110909040 | 0.263 | 0.2861
6110909042 | 0.263 | 0.2861
6111201000 | 1.2581 | 1.3688
6111202000 | 1.2581 | 1.3688
6111203000 | 1.0064 | 1.0950
6111205000 | 1.0064 | 1.0950
6111206010 | 1.0064 | 1.0950
6111206020 | 1.0064 | 1.0950
6111206030 | 1.0064 | 1.0950
6111206050 | 1.0064 | 1.0950
6111206070 | 1.0064 | 1.0950
6111305020 | 0.2516 | 0.2737
6111305050 | 0.2516 | 0.2737
6111305070 | 0.2516 | 0.2737
6112110050 | 0.7548 | 0.8212
6112120010 | 0.2516 | 0.2737
6112120030 | 0.2516 | 0.2737
6112120040 | 0.2516 | 0.2737
6112120050 | 0.2516 | 0.2737
6112120060 | 0.2516 | 0.2737
6112390010 | 1.1322 | 1.2318
6112490010 | 0.9435 | 1.0265
6114200005 | 0.9002 | 0.9794
6114200010 | 0.9002 | 0.9794
6114200015 | 0.9002 | 0.9794
6114200020 | 1.286 | 1.3992
6114200040 | 0.9002 | 0.9794
6114200046 | 0.9002 | 0.9794
6114200052 | 0.9002 | 0.9794
6114200060 | 0.9002 | 0.9794
6114301010 | 0.2572 | 0.2798
6114301020 | 0.2572 | 0.2798
6114303030 | 0.2572 | 0.2798
6115101510 | 1.0417 | 1.1334
6115103000 | 1.0417 | 1.1334
6115298010 | 1.0417 | 1.1334
6115959000 | 1.0417 | 1.1334
6115966020 | 0.2315 | 0.2519
6116101300 | 0.3655 | 0.3977
6116101720 | 0.8528 | 0.9278
6116926420 | 1.0965 | 1.1930
6116926430 | 1.2183 | 1.3255
6116926440 | 1.0965 | 1.1930
6116928800 | 1.0965 | 1.1930
6117809510 | 0.9747 | 1.0605
6117809540 | 0.3655 | 0.3977
6201121000 | 0.948 | 1.0314
6201122010 | 0.8953 | 0.9741
6201122050 | 0.6847 | 0.7450
6201122060 | 0.6847 | 0.7450
6201134030 | 0.2633 | 0.2865
6201921000 | 0.9267 | 1.0082
6201921500 | 1.1583 | 1.2602
6201922010 | 1.0296 | 1.1202
6201922021 | 1.2871 | 1.4004
6201922031 | 1.2871 | 1.4004
6201922041 | 1.2871 | 1.4004
6201922051 | 1.0296 | 1.1202
6201922061 | 1.0296 | 1.1202
6201931000 | 0.3089 | 0.3361
6201933511 | 0.2574 | 0.2801
6201933521 | 0.2574 | 0.2801
6201999060 | 0.2574 | 0.2801
6202121000 | 0.9372 | 1.0197
6202122010 | 1.1064 | 1.2038
6202122025 | 1.3017 | 1.4162
6202122050 | 0.8461 | 0.9206
6202122060 | 0.8461 | 0.9206
6202134005 | 0.2664 | 0.2898
6202134020 | 0.333 | 0.3623
6202921000 | 1.0413 | 1.1329
6202921500 | 1.0413 | 1.1329
6202922026 | 1.3017 | 1.4162
6202922061 | 1.0413 | 1.1329
6202922071 | 1.0413 | 1.1329
6202931000 | 0.3124 | 0.3399
6202935011 | 0.2603 | 0.2832
6202935021 | 0.2603 | 0.2832
6203122010 | 0.1302 | 0.1417
6203221000 | 1.3017 | 1.4162
6203322010 | 1.2366 | 1.3454
6203322040 | 1.2366 | 1.3454
6203332010 | 0.1302 | 0.1417
6203392010 | 1.1715 | 1.2746
6203399060 | 0.2603 | 0.2832
6203422010 | 0.9961 | 1.0838
6203422025 | 0.9961 | 1.0838
6203422050 | 0.9961 | 1.0838
6203422090 | 0.9961 | 1.0838
6203424006 | 1.2451 | 1.3547
6203424011 | 1.2451 | 1.3547
6203424016 | 0.9961 | 1.0838
6203424021 | 1.2451 | 1.3547
6203424026 | 1.2451 | 1.3547
6203424031 | 1.2451 | 1.3547
6203424036 | 1.2451 | 1.3547
6203424041 | 0.9961 | 1.0838
6203424046 | 0.9961 | 1.0838
6203424051 | 0.9238 | 1.0051
6203424056 | 0.9238 | 1.0051
6203424061 | 0.9238 | 1.0051
6203431500 | 0.1245 | 0.1355
6203434010 | 0.1232 | 0.1340
6203434020 | 0.1232 | 0.1340
6203434030 | 0.1232 | 0.1340
6203434040 | 0.1232 | 0.1340
6203498045 | 0.249 | 0.2709
6204132010 | 0.1302 | 0.1417
6204192000 | 0.1302 | 0.1417
6204198090 | 0.2603 | 0.2832
6204221000 | 1.3017 | 1.4162
6204223030 | 1.0413 | 1.1329
6204223040 | 1.0413 | 1.1329
6204223050 | 1.0413 | 1.1329
6204223060 | 1.0413 | 1.1329
6204223065 | 1.0413 | 1.1329
6204292040 | 0.3254 | 0.3540
6204322010 | 1.2366 | 1.3454
6204322030 | 1.0413 | 1.1329
6204322040 | 1.0413 | 1.1329
6204423010 | 1.2728 | 1.3848
6204423030 | 0.9546 | 1.0386
6204423040 | 0.9546 | 1.0386
6204423050 | 0.9546 | 1.0386
6204423060 | 0.9546 | 1.0386
6204522010 | 1.2654 | 1.3768
6204522030 | 1.2654 | 1.3768
6204522040 | 1.2654 | 1.3768
6204522070 | 1.0656 | 1.1594
6204522080 | 1.0656 | 1.1594
6204533010 | 0.2664 | 0.2898
6204594060 | 0.2664 | 0.2898
6204622010 | 0.9961 | 1.0838
6204622025 | 0.9961 | 1.0838
6204622050 | 0.9961 | 1.0838
6204624006 | 1.2451 | 1.3547
6204624011 | 1.2451 | 1.3547
6204624021 | 0.9961 | 1.0838
6204624026 | 1.2451 | 1.3547
6204624031 | 1.2451 | 1.3547
6204624036 | 1.2451 | 1.3547
6204624041 | 1.2451 | 1.3547
6204624046 | 0.9961 | 1.0838
6204624051 | 0.9961 | 1.0838
6204624056 | 0.9854 | 1.0721
6204624061 | 0.9854 | 1.0721
6204624066 | 0.9854 | 1.0721
6204633510 | 0.2546 | 0.2770
6204633530 | 0.2546 | 0.2770
6204633532 | 0.2437 | 0.2651
6204633540 | 0.2437 | 0.2651
6204692510 | 0.249 | 0.2709
6204692540 | 0.2437 | 0.2651
6204699044 | 0.249 | 0.2709
6204699046 | 0.249 | 0.2709
6204699050 | 0.249 | 0.2709
6205202016 | 0.9961 | 1.0838
6205202021 | 0.9961 | 1.0838
6205202026 | 0.9961 | 1.0838
6205202031 | 0.9961 | 1.0838
6205202036 | 1.1206 | 1.2192
6205202047 | 0.9961 | 1.0838
6205202051 | 0.9961 | 1.0838
6205202061 | 0.9961 | 1.0838
6205202066 | 0.9961 | 1.0838
6205202071 | 0.9961 | 1.0838
6205202076 | 0.9961 | 1.0838
6205302010 | 0.3113 | 0.3387
6205302030 | 0.3113 | 0.3387
6205302040 | 0.3113 | 0.3387
6205302050 | 0.3113 | 0.3387
6205302080 | 0.3113 | 0.3387
6206100040 | 0.1245 | 0.1355
6206303011 | 0.9961 | 1.0838
6206303021 | 0.9961 | 1.0838
6206303031 | 0.9961 | 1.0838
6206303041 | 0.9961 | 1.0838
6206303051 | 0.9961 | 1.0838
6206303061 | 0.9961 | 1.0838
6206403010 | 0.3113 | 0.3387
6206403030 | 0.3113 | 0.3387
6206900040 | 0.249 | 0.2709
6207110000 | 1.0852 | 1.1807
6207199010 | 0.3617 | 0.3935
6207210030 | 1.1085 | 1.2060
6207220000 | 0.3695 | 0.4020
6207911000 | 1.1455 | 1.2463
6207913010 | 1.1455 | 1.2463
6207913020 | 1.1455 | 1.2463
6208210010 | 1.0583 | 1.1514
6208210020 | 1.0583 | 1.1514
6208220000 | 0.1245 | 0.1355
6208911010 | 1.1455 | 1.2463
6208911020 | 1.1455 | 1.2463
6208913010 | 1.1455 | 1.2463
6209201000 | 1.1577 | 1.2596
6209203000 | 0.9749 | 1.0607
6209205030 | 0.9749 | 1.0607
6209205035 | 0.9749 | 1.0607
6209205040 | 1.2186 | 1.3258
6209205045 | 0.9749 | 1.0607
6209205050 | 0.9749 | 1.0607
6209303020 | 0.2463 | 0.2680
6209303040 | 0.2463 | 0.2680
6210109010 | 0.2291 | 0.2493
6210403000 | 0.0391 | 0.0425
6210405020 | 0.4556 | 0.4957
6211111010 | 0.1273 | 0.1385
6211111020 | 0.1273 | 0.1385
6211118010 | 1.1455 | 1.2463
6211118020 | 1.1455 | 1.2463
6211320007 | 0.8461 | 0.9206
6211320010 | 1.0413 | 1.1329
6211320015 | 1.0413 | 1.1329
6211320030 | 0.9763 | 1.0622
6211320060 | 0.9763 | 1.0622
6211320070 | 0.9763 | 1.0622
6211330010 | 0.3254 | 0.3540
6211330030 | 0.3905 | 0.4249
6211330035 | 0.3905 | 0.4249
6211330040 | 0.3905 | 0.4249
6211420010 | 1.0413 | 1.1329
6211420020 | 1.0413 | 1.1329
6211420025 | 1.1715 | 1.2746
6211420060 | 1.0413 | 1.1329
6211420070 | 1.1715 | 1.2746
6211430010 | 0.2603 | 0.2832
6211430030 | 0.2603 | 0.2832
6211430040 | 0.2603 | 0.2832
6211430050 | 0.2603 | 0.2832
6211430060 | 0.2603 | 0.2832
6211430066 | 0.2603 | 0.2832
6212105020 | 0.2412 | 0.2624
6212109010 | 0.9646 | 1.0495
6212109020 | 0.2412 | 0.2624
6212200020 | 0.3014 | 0.3279
6212900030 | 0.1929 | 0.2099
6213201000 | 1.1809 | 1.2848
6213202000 | 1.0628 | 1.1563
6213901000 | 0.4724 | 0.5140
6214900010 | 0.9043 | 0.9839
6216000800 | 0.2351 | 0.2558
6216001720 | 0.6752 | 0.7346
6216003800 | 1.2058 | 1.3119
6216004100 | 1.2058 | 1.3119
6217109510 | 1.0182 | 1.1078
6217109530 | 0.2546 | 0.2770
6301300010 | 0.8766 | 0.9537
6301300020 | 0.8766 | 0.9537
6302100005 | 1.1689 | 1.2718
6302100008 | 1.1689 | 1.2718
6302100015 | 1.1689 | 1.2718
6302215010 | 0.8182 | 0.8902
6302215020 | 0.8182 | 0.8902
6302217010 | 1.1689 | 1.2718
6302217020 | 1.1689 | 1.2718
6302217050 | 1.1689 | 1.2718
6302219010 | 0.8182 | 0.8902
6302219020 | 0.8182 | 0.8902
6302219050 | 0.8182 | 0.8902
6302222010 | 0.4091 | 0.4451
6302222020 | 0.4091 | 0.4451
6302313010 | 0.8182 | 0.8902
6302313050 | 1.1689 | 1.2718
6302315050 | 0.8182 | 0.8902
6302317010 | 1.1689 | 1.2718
6302317020 | 1.1689 | 1.2718
6302317040 | 1.1689 | 1.2718
6302317050 | 1.1689 | 1.2718
6302319010 | 0.8182 | 0.8902
6302319040 | 0.8182 | 0.8902
6302319050 | 0.8182 | 0.8902
6302322020 | 0.4091 | 0.4451
6302322040 | 0.4091 | 0.4451
6302402010 | 0.9935 | 1.0809
6302511000 | 0.5844 | 0.6358
6302512000 | 0.8766 | 0.9537
6302513000 | 0.5844 | 0.6358
6302514000 | 0.8182 | 0.8902
6302600010 | 1.1689 | 1.2718
6302600020 | 1.052 | 1.1446
6302600030 | 1.052 | 1.1446
6302910005 | 1.052 | 1.1446
6302910015 | 1.1689 | 1.2718
6302910025 | 1.052 | 1.1446
6302910035 | 1.052 | 1.1446
6302910045 | 1.052 | 1.1446
6302910050 | 1.052 | 1.1446
6302910060 | 1.052 | 1.1446
6303191100 | 0.9448 | 1.0279
6303910010 | 0.6429 | 0.6995
6303910020 | 0.6429 | 0.6995
6304111000 | 1.0629 | 1.1564
6304190500 | 1.052 | 1.1446
6304191000 | 1.1689 | 1.2718
6304191500 | 0.4091 | 0.4451
6304192000 | 0.4091 | 0.4451
6304910020 | 0.9351 | 1.0174
6304920000 | 0.9351 | 1.0174
6505901540 | 0.181 | 0.1969
6505902060 | 0.9935 | 1.0809
6505902545 | 0.5844 | 0.6358

* * * * *

Dated: June 30, 2009.
David R. Shipman,
Acting Administrator, Agricultural Marketing Service.

[FR Doc. E9-16031 Filed 7-7-09; 8:45 am]

BILLING CODE 3410-02-P